DEPARTMENT OF AGRICULTURE

Agricultural Research Service

Notice of Intent To Reestablish the National Genetic Resources Advisory Council, and Request for Nominations

AGENCY: Agricultural Research Service, USDA.

ACTION: Notice of Intent and Request for Nominations.

SUMMARY: The notice announced USD intent to reestablish the National Genetic Resources Advisory Council. The notice was published in the Federal Register on May 16, 2011.

FOR FURTHER INFORMATION CONTACT: J. Robert Burk, 202-720-3684.

Correction

In the Federal Register of May 14, 2011, in FR Doc. 2011-11926, on pages 28209-28210 in the SUPPLEMENTARY INFORMATION section, correct to read as follows:

The biographical information and clearance forms must be completed and returned to USDA within 10 working days of notification, to expedite the clearance process that is required before selection of Council members by the Secretary of Agriculture. Equal opportunity practices will be followed in all appointments to the Council in accordance with USDA policies. To ensure that the recommendations of the Council have taken into account the needs of the diverse groups served by USDA, membership shall include, to the extent practicable, individuals with demonstrated ability to represent all racial and ethnic groups, women and men, persons with disabilities, and limited resource agriculture producers.

Yvette Anderson,
Federal Register Liaison Officer for Agriculture Research Service.

[FR Doc. 2011-15092 Filed 6-16-11; 8:45 am]

BILLING CODE P